INTERNATIONAL TRADE COMMISSION

[Investigation No. 332-490 and Investigation No. NAFTA-103-017]

Certain Sugar Goods: Probable Economic Effect of Tariff Elimination Under NAFTA for Goods of Mexico

AGENCY: United States International Trade Commission.

ACTION: Institution of investigation and request for written submissions.

SUMMARY: Following receipt of a request on March 15, 2007 from the United States Trade Representative (USTR) under section 332(g) of the Tariff Act of 1930 (19 U.S.C. 1332(g)) and in accordance with section 103 of the North American Free Trade Agreement (NAFTA) Implementation Act (19 U.S.C. 3313), the Commission instituted Investigation Nos. 332-490 and NAFTA-103-017, Certain Sugar Goods: Probable Economic Effect of Tariff Elimination under NAFTA for Goods of Mexico.

DATES: March 15, 2007: Date of receipt of request.

April 5, 2007: Date of institution of investigation.

May 4, 2007: Deadline for written statements, including any post-hearing briefs.

June 15, 2007: Transmittal of report to the USTR.

ADDRESSES: All Commission offices, including the Commission's hearing rooms, are located in the United States International Trade Commission Building, 500 E Street, SW., Washington, DC. All written submissions, including requests to appear at the hearing, statements, and briefs, should be addressed to the Secretary, United States International Trade Commission, 500 E Street, SW., Washington, DC 20436. The public record for this investigation may be viewed on the Commission's electronic docket (EDIS) at http://edis.usitc.gov.

FOR FURTHER INFORMATION CONTACT: Information may be obtained from Douglas Newman, Office of Industries (202-205-3328 or douglas.newman@usitc.gov); for information on legal aspects, contact William Gearhart of the Commission's Office of the General Counsel (202-205-3091 or william.gearhart@usitc.gov). The media should contact Margaret O'Laughlin, Office of External Relations (202-205-1819 or margaret.olaughlin@usitc.gov). Hearing impaired individuals are advised that information on this matter can be obtained by contacting the TDD terminal on (202-205-1810). General information concerning the Commission may also be obtained by accessing its Internet server (http://www.usitc.gov). Persons with mobility impairments who will need special assistance in gaining access to the Commission should contact the Office of the Secretary at 202-205-2000.

SUPPLEMENTARY INFORMATION: According to the USTR's letter, the President may eliminate duties on between 175,000 and 250,000 metric tons, raw value, of sugar goods of Mexico that are classified in the tariff items listed below. Duties on these goods would be eliminated on October 1, 2007. Section 201(b) of the North American Free Trade Agreement Implementation Act (Act) authorizes the President, subject to the consultation and layover requirements in section 103(a) of the Act, to proclaim such modifications as the United States may agree to with Mexico or Canada regarding the staging of any duty treatment set forth in Annex 302.2 of the NAFTA. Section 103(a) requires the President to obtain advice regarding the proposed action from the Commission.

The USTR requested that the Commission provide advice as to the probable economic effect on domestic industries producing like or directly competitive articles, workers in these industries, and on consumers of the affected goods, of eliminating the U.S. tariff under the NAFTA on between 175,000 and 250,000 metric tons, raw value, of sugar goods of Mexico falling under the following Harmonized Tariff Schedule subheadings: (1) 1701.11.50 (raw cane sugar); (2) 1701.12.50 (raw beet sugar); (3) 1701.91.30 (refined sugar, containing added coloring); (4) 1701.99.50 (other refined sugar); (5) 1702.90.20 (other sugar and syrups, containing 6 percent or less soluble non-sugar solids); and (6) 2106.90.46 (sugar syrups, containing added coloring).

As requested, the Commission will provide its advice to the USTR by June 15, 2007. USTR has classified as Confidential the sections of the report that analyze probable economic effects, as well as other information that would reveal any aspect of the probable economic effects advice. USTR also requested that the Commission issue, as soon as possible after June 15, a public version of its report with any confidential business information deleted. Accordingly, the Commission will issue a public version of the report as soon as possible after June 15 and completion of USTR's review for classification purposes. The public version of the report will not include any sections of the report or information that USTR has classified as Confidential, or any information that the Commission considers to be confidential business information.

Written Submissions: In lieu of a public hearing, interested parties are invited to submit written statements concerning the matters to be addressed by the Commission in this investigation. Submissions should be addressed to the Secretary, United States International Trade Commission, 500 E Street, SW., Washington, DC 20436. To be assured of consideration by the Commission, written statements should be submitted to the Commission at the earliest practical date and should be received no later than the close of business on May 4, 2007. All written submissions must conform with the provisions of § 201.8 of the Commission's Rules of Practice and Procedure (19 CFR 201.8). Section 201.8 of the rules requires that a signed original (or copy designated as an original) and fourteen (14) copies of each document be filed. In the event that confidential treatment of the document is requested, at least four (4) additional copies must be filed, from which the confidential business information must be deleted (see the following paragraph for further information regarding confidential business information). The Commission's rules authorize filing submissions with the Secretary by facsimile or electronic means only to the extent permitted by § 201.8 of the rules (see Handbook for Electronic Filing Procedures, http://www.usitc.gov/secretary/fed_reg_notices/rules/documents/handbook_on_electronic_filing.pdf. Persons with questions regarding electronic filing should contact the Secretary (202-205-2000 or edis@usitc.gov).

Any submissions that contain confidential business information must also conform with the requirements of § 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of this investigation in the report it sends to the USTR and the President. However, the Commission will not publish such confidential business information in the public version of its report in a manner that would reveal the operations of the firm supplying the information.

Issued: April 6, 2007.
By order of the Commission.
Marilyn R. Abbott,
Secretary to the Commission.

[FR Doc. E7-6904 Filed 4-11-07; 8:45 am]

BILLING CODE 7020-02-P